DEPARTMENT OF TRANSPORTATION

Federal Aviation Administration

Meeting: RTCA Special Committee 223, Airport Surface Wireless Communications

AGENCY: Federal Aviation Administration (FAA), U.S. Department of Transportation (DOT).

ACTION: Meeting Notice of RTCA Special Committee 223, Airport Surface Wireless Communications.

SUMMARY: The FAA is issuing this notice to advise the public of the meeting of the RTCA Special Committee 223, Airport Surface Wireless Communications.

DATES: The meeting will be held June 26-28, 2013, from 9:00 a.m.-5:00 p.m. daily.

ADDRESSES: The meeting will be held at Booz, Allen, Hamilton Offices, 1201 Maryland Avenue SW., Suite 5140, Washington, DC 20036 (Across from the Portals Building) on June 26th and RTCA Headquarters, 1150 18th Street NW., Suite 910, Washington DC 20036 on June 27-28.

FOR FURTHER INFORMATION CONTACT: The RTCA Secretariat, 1150 18th Street NW., Suite 910, Washington, DC, 20036, or by telephone at (202) 330-0662/(202) 833-9339, fax (202) 833-9434, or Web site at http://www.rtca.org.

SUPPLEMENTARY INFORMATION: Pursuant to section 10(a)(2) of the Federal Advisory Committee Act (Pub. L. 92-463, 5 U.S.C., App.), notice is hereby given for a meeting of Special Committee 223. The agenda will include the following:

Wednesday, June 26, 2013 (Plenary at Booz Allen Facilities)

• Welcome, Introductions, Administrative Remarks.

• Agenda Overview.

• Review and Approve prior Plenary Meeting Summary and Action Item Status.

• General Presentations of Interest.

• MOPS: Review and Disposition of Comments.

Thursday, June 27, 2013 (Plenary at RTCA Facilities)

• MOPS: Review and Disposition of Comments.

Friday, June 28, 2013 (Plenary at RTCA Facilities)

• Profiles: Review CCB actions and Dispositions.

• Review/Approval of Document—Minimum Operational Performance Standards (MOPS) for the Aeronautical Mobile Airport Communication System (AeroMACS) and Profiles for Publication.

• Review letter regarding WiMAX Forum Reference Resolution.

• Adjourn.

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on March 6, 2013.
Paige Williams,
Management Analyst, NextGen, Business Operations Group, Federal Aviation Administration.

[FR Doc. 2013-13017 Filed 5-31-13; 8:45 am]

BILLING CODE 4910-13-P